OFFICE OF MANAGEMENT AND BUDGET

North American Industry Classification System—Revision for 2017

AGENCY: Executive Office of the President, Office of Management and Budget.

ACTION: Notice of NAICS 2017 final decisions.

SUMMARY: The North American Industry Classification System (NAICS) is a system for classifying establishments (individual business locations) by type of economic activity. Mexico's Instituto Nacional de Estadística y Geografía (INEGI), Statistics Canada, and the United States Office of Management and Budget (OMB), through its Economic Classification Policy Committee (ECPC), collaborate on NAICS to make the industry statistics produced by the three countries comparable. Under 31 U.S.C. 1104(d) and 44 U.S.C. 3504(e), the Office of Management and Budget (OMB) is announcing its final decisions for adoption of NAICS revisions for 2017 as recommended by the ECPC in Part IV of OMB's notice for solicitation of comments published in the August 4, 2015, Federal Register (80 FR 46480-46484). More details on these decisions are presented in the SUPPLEMENTARY INFORMATION section below.

DATES: Effective Date: Federal statistical establishment data published for reference years beginning on or after January 1, 2017, should be published using the 2017 NAICS United States codes. Publication of a 2017 NAICS United States Manual or supplement is planned for January 2017.

ADDRESSES: You should send correspondence about the adoption and implementation of the 2017 NAICS as shown in the August 4, 2015, Federal Register notice to: Katherine K. Wallman, Chief Statistician, Office of Management and Budget, 10201 New Executive Office Building, Washington, DC 20503, telephone number: (202) 395-3093, FAX number: (202) 395-7245. Comments submitted in response to this notice will be made available to the public through relevant Web sites. For this reason, please do not include in your comments information of a confidential nature, such as sensitive personal information or proprietary information. If you send an email comment, your email address will be automatically captured and included as part of the comment that is placed in the public docket. Please note that responses to this public comment request containing any routine notice about the confidentiality of the communication will be treated as public comments that may be made available to the public notwithstanding the inclusion of the routine notice. You may send comments via email to naics@omb.eop.gov with the subject “NAICS17.” Because of delays in the receipt of regular mail related to security screening, respondents are encouraged to use electronic communications.

You should address inquiries about the content of industries or requests for electronic copies of the 2017 NAICS tables to: John B. Murphy, Assistant Division Chief for Classification Activities, Economic Statistical Methods Division, Bureau of the Census, Room 5H063, Washington, DC 20233, telephone number: (301) 763-5172, FAX number: (301) 735-8744, or by email: John.Burns.Murphy@census.gov.

Electronic Availability and Comments: This document and the August 4, 2015, Federal Register notice are available on the Census Bureau's Web site at http://www.census.gov/naics. The revision for 2017 will result in a number of code and title changes for NAICS. For that reason, a full list of NAICS 2017 industry codes and titles will be posted on the Web site prior to publication of the NAICS United States, 2017 Manual for reference and implementation planning. The NAICS Web site referenced above also contains previous NAICS Federal Register notices and related documents.

FOR FURTHER INFORMATION CONTACT: Paul Bugg, 10201 New Executive Office Building, Washington, DC 20503, email address: pbugg@omb.eop.gov with subject “NAICS17,” telephone number: (202) 395-3095, FAX number: (202) 395-7245. Because of delays in the receipt of regular mail related to security screening, respondents are encouraged to use electronic communications.

SUPPLEMENTARY INFORMATION: The North American Industry Classification System (NAICS) is a system for classifying establishments (individual business locations) by type of economic activity. NAICS was jointly developed by Canada, Mexico, and the United States in 1997. NAICS helps ensure that establishment data produced across the Federal statistical system are comparable and can be used together in analysis.

It is important to note that NAICS is designed and maintained solely for statistical purposes. Consequently, although the classification may also be used for various nonstatistical purposes (e.g., for administrative, regulatory, or taxation functions), the requirements of government agencies or private users that choose to use NAICS for nonstatistical purposes play no role in its development or revision.

For the 2017 revision, Canada, Mexico, and the United States focused on new and emerging industries as well as updating the structure of the oil and gas industries in Subsector 211, Oil and Gas Extraction. The August 4, 2015, Federal Register notice: (1) Summarized the background for the proposed revisions to NAICS 2012 in Part I; (2) contained a summary of public comments to the first Federal Register notice (79 FR 29626-29629, May 22, 2014) for the 2017 NAICS revision process in Part II; (3) included a list of recommended title changes for NAICS industries that clarify, but do not change, the existing content of the industries in Part III; and (4) provided a comprehensive listing of recommended changes for national industries and their NAICS 2012 industries analogue(s) in Part IV.

In response to the ECPC recommendations in the August 4, 2015, Federal Register, comments that were received supported proposed changes, or suggested changes that would be incompatible with proposals that were accepted.

Final Decisions

After taking into consideration comments submitted in direct response to the May 22, 2014, Federal Register notice, as well as benefits and costs, and after consultation with the Economic Classification Policy Committee, Mexico's Instituto Nacional de Estadística y Geografía (INEGI) and Statistics Canada, OMB, with one minor exception, made no changes to the scope and substance of the ECPC's recommendations outlined in the August 4, 2015, Federal Register notice.

OMB's final decisions regarding revision of NAICS for 2017 are to adopt the recommendations contained in the August 4, 2015, Federal Register notice, with an additional title modification for NAICS 33522 from `Major Appliance Manufacturing' to `Major Household Appliance Manufacturing' in order to align with NAICS 335220, Major Household Appliance Manufacturing.

Howard A. Shelanski,
Administrator, Office of Information and Regulatory Affairs.

[FR Doc. 2016-18774 Filed 8-5-16; 8:45 am]

BILLING CODE P